DEPARTMENT OF TRANSPORTATION

National Highway Traffic Safety Administration

[Docket No. NHTSA-2012-0070]

Technical Report: Evaluation of the Enhancing Vehicle-to-Vehicle Crash Compatibility Agreement: Effectiveness of the Primary and Secondary Energy-Absorbing Structures on Pickup Trucks and SUVs

AGENCY: National Highway Traffic Safety Administration (NHTSA), Department of Transportation.

ACTION: Request for comments on technical report.

SUMMARY: This notice announces NHTSA's publication of a Technical Report reviewing and evaluating the Enhancing Vehicle-to-Vehicle Crash Compatibility Agreement. The report's title is: Evaluation of the Enhancing Vehicle-to-Vehicle Crash Compatibility Agreement: Effectiveness of the Primary and Secondary Energy-Absorbing Structures on Pickup Trucks and SUVs.

DATES: Comments must be received no later than October 1, 2012.

ADDRESSES: Report: The technical report is available on the Internet for viewing in PDF format at http://www-nrd.nhtsa.dot.gov/Pubs/811621.pdf. You may obtain a copy of the report free of charge by sending a self-addressed mailing label to Nathan K. Greenwell (NVS-431), National Highway Traffic Safety Administration, Room W53-440, 1200 New Jersey Avenue SE., Washington, DC 20590.

Comments: You may submit comments [identified by Docket Number NHTSA-2012-0070] by any of the following methods:

• Federal eRulemaking Portal: Go to http://www.regulations.gov. Follow the online instructions for submitting comments.

• Fax: 1-202-493-2251.

• Mail: Docket Management Facility, M-30, U.S. Department of Transportation, West Building, Ground Floor, Rm. W12-140, 1200 New Jersey Avenue SE., Washington, DC 20590.

• Hand Delivery: West Building Ground Floor, Room W12-140, 1200 New Jersey Avenue SE., between 9 a.m. and 5 p.m. Eastern Time, Monday through Friday, except Federal holidays.

You may call Docket Management at 202-366-9826.

Instructions: For detailed instructions on submitting comments, see the Procedural Matters section of this document. Note that all comments received will be posted without change to http://www.regulations.gov, including any personal information provided.

FOR FURTHER INFORMATION CONTACT: Nathan K. Greenwell, Mathematical Statistician, Evaluation Division, NVS-431, National Center for Statistics and Analysis, National Highway Traffic Safety Administration, Room W53-440, 1200 New Jersey Avenue SE., Washington, DC 20590. Telephone: 202-366-2570. Email: nathan.greenwell@dot.gov.

For information about NHTSA's evaluations of the effectiveness of existing regulations and programs: You may see a list of published evaluation reports at http://www-nrd.nhtsa.dot.gov/cats/listpublications.aspx?Id=226&ShowBy=Category and if you click on any report you will be able to view it in PDF format.

SUPPLEMENTARY INFORMATION: The Enhancing Vehicle-to-Vehicle Crash Compatibility Agreement (EVC) was established in 2003 as a voluntary measure to reduce occupant fatalities of passenger cars in crashes with light trucks and vans, including pickup trucks, SUVs, minivans, and full-size vans, generically abbreviated as LTVs. Manufacturers agreed upon voluntary standards for LTVs to reduce the height mismatches between these LTVs and passenger cars. NHTSA statistically compared car-occupant fatality risk in crashes with pickup trucks and SUVs, referred throughout the report as light trucks, built just before and just after self-certification to the agreement based on FARS and Polk data from 2002 to 2010. Overall, there was a statistically significant 8-percent reduction in car-occupant fatalities of passenger cars after light trucks self-certified to the agreement. However, for pickup trucks and SUVs separately, the effectiveness is inconsistent. Pickup trucks experienced a non-significant increase of 5-percent likelihood of occupant fatalities of passenger cars, while SUVs were associated with a significant 17-percent reduction. Furthermore, a supplementary non-parametric analysis does not show fatality reduction for significantly more than 50 percent of the makes and models. Overall, these results provide some evidence that the EVC has reduced fatalities but are not sufficiently strong to permit an unequivocal conclusion that it has been effective in reducing fatality risk to car occupants.

Procedural Matters

How can I influence NHTSA's thinking on this subject?

NHTSA welcomes public review of the technical report. NHTSA will submit to the Docket a response to the comments and, if appropriate, will supplement or revise the report.

How do I prepare and submit comments?

Your comments must be written and in English. To ensure that your comments are correctly filed in the Docket, please include the Docket number of this document (NHTSA-2012-0070) in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://www.regulations.gov.

Please send two paper copies of your comments to Docket Management, fax them, or use the Federal eRulemaking Portal. The mailing address is U. S. Department of Transportation, Docket Management Facility, M-30, West Building, Ground Floor, Rm. W12-140, 1200 New Jersey Avenue SE., Washington, DC 20590. The fax number is 1-202-493-2251. To use the Federal eRulemaking Portal, go to http://www.regulations.gov and follow the online instructions for submitting comments.

We also request, but do not require you to send a copy to Nathan K. Greenwell, Mathematical Statistician, Evaluation Division, NVS-431, National Highway Traffic Safety Administration, Room W53-440, 1200 New Jersey Avenue SE., Washington, DC 20590 (or email them to nathan.greenwell@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue SE., Washington, DC 20590. Include a cover letter supplying the information specified in our confidential business information regulation (49 CFR part 512).

In addition, send two copies from which you have deleted the claimed confidential business information to U.S. Department of Transportation, Docket Management Facility, M-30, West Building, Ground Floor, Rm. W12-140, 1200 New Jersey Avenue SE., Washington, DC 20590, or submit them via the Federal eRulemaking Portal.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 49 U.S.C. 30111, 30168; delegation of authority at 49 CFR 1.50 and 501.8.

Terry Shelton,
Associate Administrator, National Center for Statistics and Analysis.

[FR Doc. 2012-13249 Filed 5-31-12; 8:45 am]

BILLING CODE 4910-59-P